DEPARTMENT OF AGRICULTURE

Forest Service

Establishment of Drift Creek Purchase Unit, Lincoln County, OR

AGENCY: Forest Service, USDA.

ACTION: Notice.

SUMMARY: On June 3, 2002, the Secretary of Agriculture created the 1,863.57-acre Drift Creek Purchase Unit in Lincoln County, Oregon. A copy of the establishment document, which includes the legal descripton of the lands within the purchase unit, appears at the end of this notice.

DATES: Establishment of this purchase unit was effective June 3, 2002.

ADDRESSES: A copy of the map depicting the lands within the boundary extension is on file and available for public inspection in the Office of the Director, Lands Staff, 4th Floor—Sidney R. Yates Federal Building, Forest Service , USDA, 201 14th Street, SW., Washington, DC 20250, between the hours of 8:30 a.m. and 4:30 p.m. on business days. Those wishing to inspect the maps are encouraged to call ahead to (202) 205-1248 to facilitate entry into the building.

FOR FURTHER INFORMATION CONTACT: Jack Craven, Lands Staff, Forest Service, (202) 205-1248.

SUPPLEMENTARY INFORMATION: Pursuant to the Secretary of Agriculture's authority under Section 17, Public Law 94-588 (90 Stat. 2949), the Drift Creek Purchase Unit was created in Lincoln County, Oregon.

Dated: August 28, 2002.
Dale N. Bosworth,
Chief.

Establishment of the Drift Creek Purchase Unit Lincoln County, Oregon

The following described lands lying adjacent to the Siuslaw National Forest are determined to be suitable for the protection of watersheds of navigable streams and for other purposes in accordance with Section 6 of the Weeks Act of 1911 (16 U.S.C. 515). Therefore, in furtherance of the authority of the Secretary of Agriculture pursuant to the Weeks Act of 1911, as amended, including Section 17 of the National Forest Management Act of 1976 (Pub. L. 94-588; 90 Stat. 2961), these lands are hereby designated and established as the Drift Creek Purchase Unit:

Willamette Meridian

T.13S., R. 11W.

Section 16

SE¼SE¼, Lot 6 together with tidelands, in or abutting on the above described premises

Section 21

Lots 1-13, NE¼NE¼, S½NE¼ together with tidelands, in or abutting on the above described premises

Section 22

Lots 1-18 together with tidelands, in or abutting on the above described premises

Section 23

Lots 1, 2, N½NE¼, SE¼NE¼, W½NE¼SE¼, NW¼SE¼, S½SW¼NW¼, N½SW1¼, SE¼SW¼, S½SE¼

Section 26

Lots 1-7, SE¼, NE¼SW¼

Section 27

Lot 1, together with tidelands, in or abutting on the above described premises

Containing 1,863.57 acres, more or less.

Executed in Washington, DC, this 3rd day of June, 2002.
David P. Tenny,
Deputy Under Secretary, Natural Resources and Environment.

[FR Doc. 02-23435 Filed 9-13-02; 8:45 am]

BILLING CODE 3410-11-P